DEPARTMENT OF DEFENSE

Office of the Secretary

[Docket ID: DoD-2024-HA-0055]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 19, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, ATTN: Amanda Grifka, 703-681-1771.

SUPPLEMENTARY INFORMATION:

Title; Associated Form; and OMB Number: Safety Culture, Operational reliability, Resilience/burnout, and Engagement (SCORE™) Survey; OMB Control Number 0720-SCOR.

Needs and Uses: The 2001 National Defense Authorization Act addresses patient safety in military and veteran's healthcare and requires an examination of systemic factors which lead to medical error. The SCORE™ Survey, a validated commercial assessment tool for patient safety that engages all levels of staff from executive leaders to frontline teams, is a response to this legislation. Defense Health Network National Capital Region (DHN NCR) uses results from the SCORE™ to meet requirements for Leapfrog, a nonprofit advocate of transparency and quality in healthcare which evaluates military facilities. Furthermore, SCORE™ provides the granular, customized data necessary for true culture change at echelon or process for driving cultural change with the survey results.

Required post-survey debriefings drive team engagement: in 2020 and 2021 alone, DHN NCR SCORE™ debriefs generated over 1,000 frontline action plans which have driven Fiscal Year 2024 year-over-year increases in improvement readiness and local leadership engagement. Additionally, since SCORE™ is repeated every 12-24 months, it meets the highest-level Leapfrog requirements and have helped our largest facilities earn Leapfrog “A” designation.

Affected Public: Federal Government, Individuals, or Households.

Annual Burden Hours: 16,333.

Number of Respondents: 98,000.

Responses per Respondent: 1.

Annual Responses: 98,000.

Average Burden per Response: 10 minutes.

Frequency: As required.

Dated: May 15, 2024.
Aaron T. Siegel,
Alternate OSD Federal Register Liaison Officer, Department of Defense.

[FR Doc. 2024-11021 Filed 5-17-24; 8:45 am]

BILLING CODE 6001-FR-P